FEDERAL COMMUNICATIONS COMMISSION

47 CFR Parts 73 and 76

[MM Docket No. 83-484; FCC 00-386]

Repeal or Modification of the Personal Attack and Political Editorial Rules

AGENCY: Federal Communications Commission.

ACTION: Final rule.

SUMMARY: This document concerns repeal of the personal attack and political editorial rules for broadcast licensees and cable system operators. This order repeals the broadcast and cable personal attack and political editorial rules. The order also vacates the Commission's earlier Order and Request to Update Record which had suspended for 60 days the personal attack and political editorial rules. The U.S. District Court of Appeals, D.C. Circuit, by order of October 11, 2000 directed the Commission to repeal the rules, noting that the Commission may institute a new rulemaking proceeding to determine whether, consistent with constitutional constraints, the public interest requires the personal attack and political editorial rules.

DATES: This rule is effective October 26, 2000.

ADDRESSES: Federal Communications Commission, 445 Twelfth Street, SW., Washington, DC 20554.

FOR FURTHER INFORMATION CONTACT: Cyndi Thomas, Policy and Rules Division, Mass Media Bureau, at (202) 418-2600.

SUPPLEMENTARY INFORMATION: This is a summary of the Order in MM Docket No. 83-484, FCC 00-386, adopted October 26, 2000; released October 26, 2000. The full text of this decision is available for inspection and copying during regular business hours in the FCC Reference Center, 445 Twelfth Street, SW., Room CY-A257, Washington, DC, and also may be purchased from the Commission's copy contractor, International Transcription Service, (202) 857-3800, 445 Twelfth Street, SW., Room CY-B402, Washington, DC. The complete text is also available under the file name fcc00386.pdf on the Commission's Internet site at www.fcc.gov.

Synopsis of Order

1. Pursuant to the D.C. Circuit Court of Appeals' order in Radio-Television News Directors Association v. FCC, No. 98-1305, slip op. (D.C. Cir. Oct. 11, 2000) (RTNDA), the Commission hereby repeals §§ 73.1920 and 73.1930 of our rules, 47 CFR 73.1920, 73.1930, the broadcast personal attack and political editorial rules. Further, in light of these actions, the Commission vacates its Order and Request to Update Record released October 4, 2000 (FCC 00-360) (65 FR 60387, October 11, 2000) and terminate this proceeding.

2. The Commission also repeals the personal attack and political editorial rules that apply to cable television operators. 47 CFR 76.209(b), (c), and (d). Although these rules were not specifically cited in the proceeding before the Court of Appeals in RTNDA, they are identical to those rules in all material respects. The potential elimination of these rules was raised in a Notice of Proposed Rule Making in MM Docket No. 83-331, 48 FR 26471 (June 8, 1983), and was specifically addressed in a 1996 request for further information in the instant docket, MM Docket No. 83-484, 48 FR 28295 (June 21, 1983). Given the delay in concluding these proceedings and the Court of Appeals' decision, the Commission also vacates these identical cable television rules placed at issue in MM Docket No. 83-331. The Commission does so on the procedural grounds set forth in the Court of Appeals' decision in RTNDA, without expressing any conclusion as to the substantive issues underlying these rules. As the Court of Appeals noted, “[o]f course, the Commission may institute a new rule-making proceeding to determine whether, consistent with constitutional constraints, the public interest requires the personal attack and political editorial rules.” RTNDA, slip op. at 4. With respect to the personal attack and political editorial rules, “these are issues that the court has yet to decide.” Id.

Ordering Clauses

3. Sections 73.1920, 73.1930 and 76.209(b), (c), and (d) of the Commission's rules, 47 CFR 73.1920, 73.1930, 76.209(b), (c), (d) are repealed.

4. The Commission's rules are amended as set forth.

5. The Order and Request to Update Record, FCC 00-360 (rel. Oct. 4, 2000) is vacated.

6. This proceeding is terminated.

7. This action is taken pursuant to sections 4(i), 4(j) and 303 of the Communications Act of 1934, as amended, 47 U.S.C. 154(i), 154(j), and 303.

List of Subjects

47 CFR Part 73

Radio, television broadcasting.

47 CFR Part 76

Cable television service.

Federal Communications Commission.
Magalie Roman Salas,
Secretary.

Rule Changes

Parts 73 and 76 of Chapter 1 of Title 47 of the Code of Federal Regulations are amended as follows:

PART 73—RADIO BROADCAST SERVICES

1. The authority citation for part 73 continues to read as follows:

Authority: 47 U.S.C. 154, 303, 334 and 336.

§ 73.1920 [Removed]

2. Section 73.1920 is removed.

§ 73.1930 [Removed]

3. Section 73.1930 is removed.

PART 76—MULTICHANNEL VIDEO AND CABLE TELEVISION SERVICE

4. The authority citation for part 76 continues to read as follows:

Authority: 47 U.S.C. 151, 152, 153, 154, 301, 302, 303, 303a, 307, 308, 309, 312, 317, 325, 503, 521, 522, 531, 532, 534, 535, 536, 537, 543, 544, 544a, 545, 548, 549, 552, 554, 556, 558, 560, 561, 571, 572, 573.

5. Sections 76.209 is revised to read as follows:

§ 76.209 Fairness doctrine; personal attacks; political editorials.

A cable television system operator engaging in origination cablecasting shall afford reasonable opportunity for the discussion of conflicting views on issues of public importance.

Note to § 76.209: See public notice, “Applicability of the Fairness Doctrine in the Handling of Controversial Issues of Public Importance,” 29 FR 10415.

[FR Doc. 00-28353 Filed 11-6-00; 8:45 am]

BILLING CODE 6712-01-P